DEPARTMENT OF JUSTICE

Notice of Lodging of Proposed Consent Decree Under the Clean Air Act

On August 14, 2013, the Department of Justice lodged a proposed Ninth Amendment to the Consent Decree entered in United States v. BP Exploration and Oil Co., et al., (Civil No. 2:96 CV 095 RL) with the United States District Court for the Northern District of Indiana.

The proposed Ninth Amendment transfers the Consent Decree's obligations for BP Products North America Inc.'s (hereinafter “BP Products'”) petroleum refinery located in Texas City, Texas (hereinafter, the “Texas City Refinery”) from BP Products to Blanchard Refining Company LLC (hereinafter “Blanchard”), a wholly owned subsidiary of Marathon Petroleum Company LP.

The proposed Ninth Amendment also resolves alleged violations by BP Products at the Texas City Refinery of the Clean Air Act's Standards of Performance for New Stationary Sources: VOC Emissions for Petroleum Refinery Wastewater Systems, 40 CFR Part 60, Subpart QQQ and National Emissions Standard for Asbestos, 40 CFR Part 61, Subpart M. The proposed Ninth Amendment requires Blanchard to perform injunctive relief to correct and to resolve these violations. BP Products will pay $950,000 in civil penalties.

The publication of this notice opens a period for public comment on the proposed Ninth Amendment to the Consent Decree. Comments should be addressed to the Assistant Attorney General, Environment and Natural Resources Division, and should refer to United States v. BP Exploration and Oil Co., et al., (Civil No. 2:96 CV 095 RL), D.J. Ref. No. 90-5-2-1-07109. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department Web site: http://www.usdoj.gov/enrd/Consent_Decrees.html. We will provide a paper copy of the proposed consent decree upon written request and payment of reproduction costs. Please mail your request and payment to: Consent Decree Library, U.S. DOJ—ENRD, P.O. Box 7611, Washington, DC 20044-7611.

Please enclose a check or money order for $8.25 (25 cents per page reproduction cost) payable to the United States Treasury.

Thomas P. Carroll,
Assistant Section Chief, Environmental Enforcement Section, Environment and Natural Resources Division.

[FR Doc. 2013-20141 Filed 8-16-13; 8:45 am]

BILLING CODE 4410-15-P